SUSQUEHANNA RIVER BASIN COMMISSION

Commission Meeting

AGENCY: Susquehanna River Basin Commission.

ACTION: Notice.

SUMMARY: The Susquehanna River Basin Commission will conduct its regular business meeting on December 14, 2023 in Corning, New York. Details concerning the matters to be addressed at the business meeting are contained in the Supplementary Information section of this notice. Also the Commission published a document in the Federal Register on October 16, 2023, concerning its public hearing on November 2, 2023, in Harrisburg, Pennsylvania.

DATES: The meeting will be held on Thursday, December 14, 2023, at 9 a.m.

ADDRESSES: This public meeting will be conducted in person and digitally from the Corning Radisson, 125 Dennison Parkway East, Corning, New York 14830.

FOR FURTHER INFORMATION CONTACT: Jason E. Oyler, General Counsel and Secretary to the Commission, telephone: 717-238-0423; fax: 717-238-2436.

SUPPLEMENTARY INFORMATION: The business meeting will include actions or presentations on the following items: (1) presentation of the William Jeanes Award; (2) approval of contracts, grants and agreements; (3) a motion to release a proposed general permit for public comment; (4) a motion to release a proposed rulemaking for public comment; (5) ratification of settlement agreements for regulatory violations; and (6) actions on 20 regulatory program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

The meeting will be conducted both in person at the Corning Radisson, 125 Denison Parkway East, Corning, New York and digitally. The public is invited to attend the Commission's business meeting. You can access the Business Meeting remotely via Zoom: https://us02web.zoom.us/j/82472805136?pwd=VlpHaElpeWF2U0RhWVFQRHhTbU40UT09; Meeting ID 824 7280 5136; Passcode: SRBC4423! or via telephone: 309-205-3325 or 312-626-6799; Meeting ID 824 7280 5136.

Written comments pertaining to items on the agenda at the business meeting may be mailed to the Susquehanna River Basin Commission, 4423 North Front Street, Harrisburg, Pennsylvania 17110-1788, or submitted electronically at the link Business Meeting Comments. Such comments are due to the Commission on or before December 11, 2023. Comments will not be accepted at the business meeting noticed herein.

Authority: Pub. L. 91-575, 84 Stat. 1509 et seq., 18 CFR parts 806, 807, and 808.

Dated: November 8, 2023.
Jason E. Oyler,
General Counsel and Secretary to the Commission.

[FR Doc. 2023-25077 Filed 11-13-23; 8:45 am]

BILLING CODE 7040-01-P